DEPARTMENT OF STATE

[Public Notice 5474]

30-Day Notice of Proposed Information Collection: DS-1998E, Foreign Service Written Examination Registration Form, OMB Control Number 1405-0008

ACTION: Notice of request for public comment and submission to OMB of proposed collection of information.

SUMMARY: The Department of State has submitted the following information collection request to the Office of Management and Budget (OMB) for approval in accordance with the Paperwork Reduction Act of 1995.

• Title of Information Collection: Foreign Service Written Examination Registration Form.

• OMB Control Number: 1405-0008.

• Type of Request: Extension of a Currently Approved Collection.

• Originating Office: Human Resources, HR/REE/BEX.

• Form Number: DS-1998E.

• Respondents: Registrants for the Foreign Service Written Examination.

• Estimated Number of Respondents: 32,316.

• Estimated Number of Responses: 32,316.

• Average Hours Per Response: 20 minutes (⅓ hour).

• Total Estimated Burden: 10,772 hours.

• Frequency: Annually.

• Obligation to Respond: Required to Obtain or Retain a Benefit.

DATES: Submit comments to the Office of Management and Budget (OMB) for up to 30 days from July 26, 2006.

ADDRESSES: Direct comments and questions to Katherine Astrich, the Department of State Desk Officer in the Office of Information and Regulatory Affairs at the Office of Management and Budget (OMB), who may be reached at 202-395-4718. You may submit comments by any of the following methods:

• E-mail: kastrich@omb.eop.gov. You must include the DS form number, information collection title, and OMB control number in the subject line of your message.

• Mail (paper, disk, or CD-ROM submissions): Office of Information and Regulatory Affairs, Office of Management and Budget, 725 17th Street, NW., Washington, DC 20503.

• Fax: 202-395-6974.

FOR FURTHER INFORMATION CONTACT: You may obtain copies of the proposed information collection and supporting documents from Margaret Dean, HR/REE/BEX, SA-1, 2401 E Street, H-518, Washington, DC 20522, who may be reached on 202-261-8898 or at deanmm@state.gov.

SUPPLEMENTARY INFORMATION:

We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

Individuals registering for the Foreign Service Written Examination will provide information about their name, age, Social Security Number, contact information, ethnicity, and very brief information on their education and work history. The information will be used to prepare and issue admission to the examination, to help improve future examinations, and to conduct research studies based on the examination results.

Methodology

Responses can be submitted via the online registration option or by telephone contact with the test contractor.

Dated: June 26, 2006.
Raphael Mirabal,
Deputy Director, Bureau of Human Resources, Department of State.

[FR Doc. E6-11937 Filed 7-25-06; 8:45 am]

BILLING CODE 4710-15-P